DEPARTMENT OF VETERANS AFFAIRS

National Research Advisory Council (NRAC); Notice of Meeting

The Department of Veterans Affairs (VA) gives notice under the Federal Advisory Committee Act that the NRAC will hold a meeting on Wednesday, June 6, 2018, in Conference Room 730, at 810 Vermont Ave. NW, Washington, DC 20420. The meeting will convene at 9:00 a.m. and end at 3:30 p.m. This meeting is open to the public.

The agenda will include VA modernization and the Secretary's priorities, a communication update, status of NRAC recommendations to VA, diversity and inclusion efforts, and the Office of Research and Development (ORD) priorities. No time will be allocated at this meeting for receiving oral presentations from the public. Members of the public wanting to attend may contact Ms. Melissa Cooper, Designated Federal Officer, ORD (10P9), Department of Veterans Affairs, 810 Vermont Avenue NW, Washington, DC 20420, at (202) 461-6044, or by email at Melissa.Cooper@va.gov no later than close of business on May 25, 2018. Because the meeting is being held in a government building, a photo I.D. must be presented at the Guard's Desk as a part of the clearance process. Due to security protocols, and in order to prevent delays in clearance processing, you should allow an additional 30 minutes before the meeting begins. Any member of the public seeking additional information should contact Ms. Cooper at the phone number or email address noted above.

Dated: May 2, 2018.
LaTonya L. Small,
Advisory Committee Management Officer.

[FR Doc. 2018-09760 Filed 5-7-18; 8:45 am]

BILLING CODE 8320-01-P